NATIONAL CREDIT UNION ADMINISTRATION

Sunshine Act Meeting

TIME AND DATE: 3:00 p.m., Wednesday, July 19, 2017.

PLACE: Board Room, 7th Floor, Room 7047, 1775 Duke Street, Alexandria, VA 22314-3428.

STATUS: Closed.

MATTERS TO BE CONSIDERED:

1. Supervisory Matter. Closed pursuant to Exemptions (4), and (8).

2. Request for Approval. Closed pursuant to Exemption (6).

3. Personnel. Closed pursuant to Exemptions (2), (6), and (9)(ii).

FOR FURTHER INFORMATION CONTACT: Gerard Poliquin, Secretary of the Board, Telephone: 703-518-6304.

Gerard Poliquin,
Secretary of the Board.

[FR Doc. 2017-14924 Filed 7-12-17; 4:15 pm]

BILLING CODE 7535-01-P